DEPARTMENT OF AGRICULTURE

Food and Nutrition Service

Agency Information Collection Activities: Proposed Collection; Comment Request—Child Nutrition Database

AGENCY: Food and Nutrition Service, USDA.

ACTION: Notice.

SUMMARY: In accordance with the Paperwork Reduction Act of 1995, this notice announces the intention of the Food and Nutrition Service to request an extension of a currently approved collection. This collection is the voluntary submission of data including nutrient data from the food service industry to expand the Child Nutrition Database in support of the School Meal Initiatives for Healthy Children.

DATES: Comments on this notice must be received by November 19, 2001 to be assured of consideration.

ADDRESSES: Comments are invited on: (a) Whether the proposed collection of information is necessary for the proper performance of the functions of the Agency, including whether the information will have practical utility; (b) the accuracy of the Agency's estimate of the burden of the proposed collection of information including the validity of the methodology and assumptions used; (c) ways to enhance the quality, utility, and clarity of the information to be collected; and (d) ways to minimize the burden of the collection of information on those who are to respond, including use of appropriate automated, electronic, mechanical, or other technological collection techniques or other forms of information technology. All responses to this notice will be summarized and included in the request for OMB approval and will become a matter of public record. Comments may be sent to: William Wagoner, Team Leader, Technical Assistance Section, Nutrition Promotion and Training Branch, Child Nutrition Division, room 632, Food and Nutrition Service, United States Department of Agriculture, 3101 Park Center Drive, Alexandria, VA 22302.

FOR FURTHER INFORMATION CONTACT: Requests for additional information or copies of the information collection instruments and instruction should be directed to William Wagoner at (703) 305-2609.

SUPPLEMENTARY INFORMATION: Title: Data Collection to Expand the Child Nutrition Database.

OMB Number: 0584-0494.

Expiration Date: 02-2002.

Type of Request: Extension of currently approved collection.

Abstract: The development of the Child Nutrition (CN) Database, previously known as the National Nutrient Database for Child Nutrition Programs, is regulated by the United States Department of Agriculture (USDA) School Meal Initiatives for Healthy Children. This database is designed to be incorporated in USDA approved nutrition analysis software programs and provide an accurate source of nutrient data. The software allows schools participating in the National School Lunch (NSLP) and School Breakfast (SBP) Programs to analyze meals and measure the compliance of the menus to established nutrition goals and standards specified in 7 CFR 210.10 for the NSLP and 7 CFR 220.8 for the SBP. The information collection for the CN Database is conducted using an outside contractor. The CN Database needs to be updated with an extensive database of brand name or manufactured foods commonly used in school food service. The Food and Nutrition Service's contractor collects this data from the food industry to expand the CN Database. The submission of data from the food industry will be strictly voluntary, and based on analytical, calculated, or nutrition facts label sources.

Respondents: The respondents are the manufacturers of food products for school food service.

Estimate of Burden

Form FNS-709

Number of Respondents: 60.

Estimated Number of Responses per Respondent: 50.

Estimated Time per Response: 0.33 Hours (20 Minutes).

Total Annual Burden: 1,000 Hours.

Form FNS-710

Number of Respondents: 15.

Estimated Number of Responses per Respondent: 50.

Estimated Time per Response: 2 Hours.

Total Annual Burden: 1500 Hours.

Total Annual Burden for Form 710 & 709: 2500 Hours.

Dated: September 7, 2001.
George A. Braley,
Acting Administrator, Food and Nutrition Service.

[FR Doc. 01-23216 Filed 9-17-01; 8:45 am]

BILLING CODE 3410-30-P